DEPARTMENT OF COMMERCE

International Trade Administration

[A-588-815; A-201-802]

Continuation of Antidumping Duty Orders: Gray Portland Cement and Cement Clinker from Japan and Mexico

AGENCY: Import Administration, International Trade Administration, Department of Commerce.

ACTION: Notice of continuation of antidumping duty rrders: Gray portland cement and cement clinker from Japan and Mexico.

SUMMARY: On March 3, 2000, and July 3, 2000, the Department of Commerce (“the Department”), pursuant to sections 751(c) and 752 of the Tariff Act of 1930, as amended (“the Act”), determined that revocation of the antidumping duty orders on gray portland cement and cement clinker from Japan and Mexico would be likely to lead to continuation or recurrence of dumping. See Gray Portland Cement and Cement Clinker From Japan; Final Results of Antidumping Duty Expedited Sunset Review, 65 FR 11549 (March 3, 2000), and Gray Portland Cement and Cement Clinker From Mexico; Final Results of Full Sunset Review, 65 FR 41049 (July 3, 2000).

On November 1, 2000, the International Trade Commission (“the Commission”), pursuant to section 751(c) of the Act, determined that revocation of the antidumping duty orders on gray portland cement and cement clinker from Japan and Mexico would be likely to lead to continuation or recurrence of material injury to an industry in the United States within a reasonably foreseeable time. See Gray Portland Cement and Cement Clinker from Japan, Mexico, and Venezuela, 65 FR 65327 (November 1, 2000). Therefore, pursuant to 19 CFR 351.218(f)(4), the Department is publishing this notice of continuation of the antidumping duty orders on gray portland cement and cement clinker from Japan and Mexico.

EFFECTIVE DATE: November 15, 2000.

FOR FURTHER INFORMATION CONTACT: Martha V. Douthit or James P. Maeder, Office of Policy for Import Administration, International Trade Administration, U.S. Department of Commerce, 14th Street and Constitution Ave., NW, Washington, DC 20230; telephone: (202) 482-5050 or (202) 482-3330, respectively.

SUPPLEMENTARY INFORMATION:

Background

On August 2, 1999, the Department initiated, and the Commission instituted, sunset reviews (64 FR 41915 and 64 FR 41958) of the antidumping duty orders on gray portland cement and cement clinker from Japan and Mexico, pursuant to section 751(c) of the Act. As a result of its reviews, the Department found, on March 3, 2000, and July 3, 2000, that revocation of the antidumping duty orders on gray portland cement and cement clinker from Japan and Mexico would likely lead to continuation or recurrence of dumping and notified the Commission of the magnitude of the margins likely to prevail were the orders revoked. See 65 FR 11549 (March 3, 2000 and 65 FR 41049 (July 3, 2000), respectively.

On November 1, 2000, the Commission determined, pursuant to section 751(c) of the Act, that revocation of the antidumping duty orders on gray portland cement and cement clinker from Japan and Mexico would be likely to lead to continuation or recurrence of material injury to an industry in the United States within a reasonably foreseeable time. See Gray Portland Cement and Cement Clinker From Japan, Mexico, and Venezuela, 65 FR 65327 (November 1, 2000) and USTIC Publication 3361, Investigation Nos. 303-TA-21 (Review) and 731-TA-451, 461, and 519 (Review)(October 2000).

Scope of the Orders

See Appendix

Determination

As a result of the determinations by the Department and the Commission that revocation of the antidumping duty orders would be likely to lead to continuation or recurrence of dumping and material injury to an industry in the United States, pursuant to section 751(d)(2) of the Act, the Department hereby orders the continuation of the antidumping duty orders on gray portland cement and cement clinker from Japan and Mexico. The Department will instruct the Customs Service to continue to collect antidumping duty deposits at the rates in effect at the time of entry for all imports of subject merchandise. The effective date of continuation of these orders will be the date of publication in the Federal Register of this Notice of Continuation. Pursuant to section 751(c)(2) and 751(c)(6) of the Act, the Department intends to initiate the next five-year review of this order not later than October 2005.

Dated: November 8, 2000.
Joseph A. Spetrini,
Acting Assistant Secretary for Import Administration.

Appendix

Japan

The products covered by this order are gray portland cement and cement clinker (“portland cement”) from Japan. Gray portland cement is a hydraulic cement and the primary component of concrete. Cement clinker, an intermediate material produced when manufacturing cement, has no use other than grinding into finished cement. Microfine cement was specifically excluded from the antidumping duty order. Gray portland cement is currently classifiable under the Harmonized Tariff Schedule (“HTS”) item number 2523.29, and cement clinker is currently classifiable under HTS item number 2523.10. Gray portland cement has also been entered under item number 2523.90 as “other hydraulic cements.” The Department made two scope rulings regarding the subject merchandise. See Scope Rulings, 57 FR 19602 (May 7, 1992), classes G and H of oil well cement are within the scope of the order; and Scope Rulings, 58 FR 27542 (May 10, 1993), nittetsu super fine cements are not within the scope of the order.

The HST item numbers are provided for convenience and customs purposes. The written product description remains dispositive as to the scope of the product coverage.

Mexico

The products covered by this order include gray portland cement and clinker (“portland cement”) from Mexico. Gray portland cement is a hydraulic cement and the primary component of concrete. Clinker, an intermediate material product produced when manufacturing cement, has no use other than of being ground into finished cement. Gray portland cement is currently classifiable under the Harmonized Tariff Schedule (“HTS”) item number 2523.29 and cement clinker is currently classifiable under HTS item number 2523.10. Gray portland cement has also been entered under HTS item number 2523.90 as “other hydraulic cements”. In its only scope ruling, the Department determined that masonry cement is not within the scope of the order. See Scope Ruling 61 FR 18381 (April 25, 1996).

The HTS subheadings are provided for convenience and customs purposes only. The written product description remains dispositive as to the scope of the product coverage.

[FR Doc. 00-29252 Filed 11-14-00; 8:45 am]

BILLING CODE 3510-DS-P